DEPARTMENT OF JUSTICE

[OMB Number 1121-0312]

Agency Information Collection Activities; Proposed eCollection eComments Requested; Revision of a Currently Approved Collection: 2014-2016 Survey of State Criminal History Information Systems

AGENCY: Bureau of Justice Statistics, Department of Justice.

ACTION: 30-day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at Volume 80 FR 9282, February 20, 2015, allowing for a 30 day comment period. This notice is being published to seek public comments on changes to the survey instrument proposed for the 2016 collection.

DATES: Comments are encouraged and will be accepted for 30 days until January 5, 2017.

FOR FURTHER INFORMATION CONTACT: If you have additional comments especially on the estimated public burden or associated response time, suggestions, or need a copy of the proposed information collection instrument with instructions or additional information, please contact Devon Adams, Bureau of Justice Statistics, 810 Seventh St. NW., Washington, DC 20531 (email: Devon.Adams@usdoj.gov; telephone: 202-514-9157). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Survey of State Criminal History Information Systems, 2016.

(3) Agency form number, if any, and the applicable component of the Department of Justice sponsoring the collection: There is no form number. The applicable component within the Department of Justice is the Bureau of Justice Statistics, in the Office of Justice Programs.

(4) Affected public who will be asked or required to respond, as well as a brief abstract: Primary: State Government. This information collection is a survey of State record repositories to estimate the percentage of total state records that are immediately available through the FBI's Interstate Identification Index and the percentage of records that are complete and fingerprint-supported.

(5) An estimate of the total number of respondents and the amount of time estimated for an average respondent to respond: It is estimated that 56 respondents will expend approximately 6.2 hours to complete the survey once every two years.

(6) An estimate of the total public burden (in hours) associated with the collection: There are an estimated 347 total annual burden hours associated with this collection.

If additional information is required contact: Jerri Murray, Department Clearance Officer, United States Department of Justice, Justice Management Division, Policy and Planning Staff, Two Constitution Square, 145 N Street NE., 3E.405B, Washington, DC 20530.

Dated: November 30, 2016.
Jerri Murray,
Department Clearance Officer for PRA, U.S. Department of Justice.

[FR Doc. 2016-29148 Filed 12-5-16; 8:45 am]

BILLING CODE 4410-18-P